DEPARTMENT OF THE INTERIOR

Fish and Wildlife Service

Notice of Availability of the Final Environmental Impact Statement for Caspian Tern Management To Reduce Predation of Juvenile Salmonids in the Columbia River Estuary

AGENCY: U.S. Fish and Wildlife Service, Department of the Interior.

ACTION: Notice of availability.

SUMMARY: The U.S. Fish and Wildlife Service (Service) announces that the Final Environmental Impact Statement (Final EIS) for Caspian Tern (Sterna caspia) Management to Reduce Predation of Juvenile Salmonids in the Columbia River Estuary is available for review and comment. This Final EIS was prepared pursuant to the National Environmental Policy Act of 1969, as amended (NEPA) with the U.S. Army Corps of Engineers (Corps) and National Marine Fisheries Service (NOAA Fisheries) as cooperating agencies. This Final EIS describes the three Federal Agencies' proposal for the redistribution of the Caspian tern colony from East Sand Island, Columbia River estuary to various sites located throughout the Pacific Coast/Western region. The purposes of the proposed action are to reduce tern predation on juvenile Columbia River salmonids and eliminate the vulnerability of the regional tern population associated with having the majority of the population (70 percent) breeding in one location.

DATES: A Record of Decision may be signed no sooner than 30 days after publication of this notice (40 CFR 1506.10 (b) (2)).

FOR FURTHER INFORMATION CONTACT: For more information or to request a copy of the Final EIS, contact Nanette Seto or Tara Zimmerman, Migratory Birds and Habitat Programs, 911 NE. 11th Avenue, Portland, OR, 97232, telephone (503) 231-6164, facsimile (503) 231-2019.

SUPPLEMENTARY INFORMATION: Copies of the Final EIS will be available for viewing and downloading online at:

1. http://migratorybirds.pacific.fws.gov/CATE.htm,

2. http://www.nwp.usace.army.mil/pm/e/, and

3. http://nwr.noaa.gov.

Printed documents will also be available for review at the following libraries:

1. North Olympic Library System, Port Angeles Branch, Port Angeles, WA,

2. North Olympic Library System, Sequim Branch, Sequim, WA,

3. Astoria Public Library, Astoria, OR,

4. Multnomah County Central Library, Portland, OR,

5. Eugene Public Library, Eugene, OR,

6. Lake County Library, Lakeview, OR,

7. San Francisco Public Library, San Francisco, CA, and

8. Oakland Main Public Library, Oakland, CA

Copies of the Final EIS may be obtained by writing to U.S. Fish and Wildlife Service, Migratory Birds and Habitat Programs, Attn: Nanette Seto, 911 NE. 11th Avenue, Portland, OR, 97232, or cateeis@fws.gov.

Background

Recent increases in the number of Caspian terns nesting in the Columbia River estuary, Oregon, have led to concerns over their potential impact on the recovery of threatened and endangered Columbia River salmon. In 2000, Seattle Audubon, National Audubon, American Bird Conservancy, and Defenders of Wildlife filed a lawsuit against the Corps alleging that compliance with NEPA for a proposed action of relocating the large colony of Caspian terns from Rice Island to East Sand Island was insufficient, and against the Service in objection to the potential take of eggs as a means to prevent nesting on Rice Island. In 2002, all parties reached a settlement agreement. The settlement agreement stipulates that the Service, Corps, and NOAA Fisheries prepare an EIS to address Caspian tern management in the Columbia River estuary and juvenile salmonid predation.

The three cooperating agencies analyzed four alternatives for future Caspian tern management in the Columbia River estuary; of these, Alternative C has been identified as the preferred alternative.

Alternative C has not been modified from the Draft EIS which was released on July 23, 2004 for public review. This alternative proposes management actions that would reduce tern predation on juvenile salmonids in the Columbia River estuary by redistributing a portion of the tern colony on East Sand Island throughout the Pacific Coast/Western region. This would be achieved by reducing the tern nesting site on East Sand Island to approximately 1 to 1.5 acres and managing sites in Washington, Oregon, and California specifically for displaced Caspian terns. Future management sites include Dungeness National Wildlife Refuge, Washington; Summer, Crump, and Fern Ridge lakes, Oregon; and Brooks Island, Hayward Regional Shoreline, and Don Edwards San Francisco Bay National Wildlife Refuge in San Francisco Bay, California. We expect a colony size of approximately 2,500 to 3,125 nesting pairs to remain on East Sand Island.

The Corps would continue efforts, such as hazing (e.g., disturbance to terns prior to the nesting season), to prevent Caspian tern nesting on upper estuary islands (e.g., Rice Island, Miller Sands Spit, Pillar Rock Island) of the Columbia River estuary to prevent high tern predation rates of juvenile salmonids and comply with the 1999 Corps Columbia River Channel Operation and Maintenance Program Biological Opinion. The Service would issue an egg take permit to the Corps for upper estuary islands (not including East Sand Island) if the efforts to prevent tern nesting at these sites fail. Additionally, the Corps would resume dredged material (e.g., sand) disposal on the downstream end of Rice Island, on the former Caspian tern nesting site.

Public comments were requested, considered, and incorporated throughout the planning process in numerous ways. Public outreach has included open houses, planning updates, Federal Register notices, and a project website. Two previous notices were published in the Federal Register concerning this EIS (68 FR 16826, April 7, 2003 and 69 FR 44053, July 23, 2004). During the Draft EIS comment period (July 23, 2004 to September 21, 2004), the Service received a total of 37 comments (e-mails, letters, faxes, or postcards). All substantive issues raised in the comments have been addressed through revisions incorporated into the Final EIS text or in responses to comments contained in Appendix J of the Final EIS.

Dated: December 3, 2004.
David J. Wesley,
Regional Director, U.S. Fish and Wildlife Service, Region 1, Portland, Oregon.

[FR Doc. 05-4 Filed 1-13-05; 8:45 am]

BILLING CODE 4310-55-P